FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 18, 2008.

A. Federal Reserve Bank of Minneapolis (Jacqueline G. King, Community Affairs Officer) 90 Hennepin Avenue, Minneapolis, Minnesota 55480-0291:

1. John Smoluch and Donna Smoluch, both of Coon Rapids, Minnesota, to retain and acquire control of Community Pride Bank Corporation, Ham Lake, Minnesota, and thereby indirectly retain and acquire control of Community Pride Bank, Isanti, Minnesota.

B. Federal Reserve Bank of Kansas City (Todd Offenbacker, Assistant Vice President) 1 Memorial Drive, Kansas City, Missouri 64198-0001:

1. The Barbara Dean Flaming Trust and Brenda Jean Flaming Salinas, trustee; the Brenda Jean Flaming Trust and Barbara Dean Flaming Waite, trustee; the Michael Todd Flaming Trust and Brenda Jean Flaming Salinas, trustee; and the Flaming Children 2008 Irrevocable Trust and Gerald R. Chelgren, trustee; all of Cherokee, Oklahoma, part of a group acting in concert, to acquire and retain control of Alfalfa County Bancshares, Inc., and thereby indirectly acquire and retain control of ACB Bank, both in Cherokee, Oklahoma.

Board of Governors of the Federal Reserve System, July 29, 2008.
Robert deV. Frierson,
Deputy Secretary of the Board.

[FR Doc. E8-17670 Filed 7-31-08; 8:45 am]

BILLING CODE 6210-01-S